DEPARTMENT OF THE INTERIOR

Bureau of Land Management

[LL WO31000-L13100000.PP0000-09-24-1A; OMB Control Number 1004-0162]

Information Collection; Oil and Gas Geophysical Exploration Operations

AGENCY: Bureau of Land Management.

ACTION: 30-Day notice and request for comments.

SUMMARY: The Bureau of Land Management (BLM) has submitted an information collection request to the Office of Management and Budget (OMB) for a 3-year extension of OMB Control Number 1004-0162 under the Paperwork Reduction Act. The respondents are required to provide certain information in order to conduct oil and gas geophysical exploration operations on lands managed by BLM or by the U.S. Forest Service.

DATES: The OMB is required to respond to this information collection request within 60 days but may respond after 30 days. Therefore, written comments should be received on or before March 27, 2009.

ADDRESSES: You may submit comments directly to the Desk Officer for the Department of the Interior (OMB # 1004-0162), Office of Management and Budget, Office of Information and Regulatory Affairs, fax 202-395-6566, or by electronic mail at oira_docket@omb.eop.gov.

Please mail or hand-carry a copy of your comments to: BLM Information Collection Clearance Officer (WO-630), Department of the Interior, 1849 C Street, NW., Mail Stop 401 LS, Washington, DC 20240.

You may also send a copy of your comments by electronic mail to jean_sonneman@blm.gov.

FOR FURTHER INFORMATION CONTACT: Barbara Gamble, Division of Fluid Minerals, at 202-452-0338 (Commercial or FTS).

SUPPLEMENTARY INFORMATION: 60-Day Notice: On September 9, 2008, the BLM published a 60-day notice (73 FR 52409) requesting comments on the proposed information collection. The comment period ended November 10, 2008. One comment was received. The comment did not address, and was not germane to, this information collection; rather, it was a general invective about the Department of the Interior, the BLM, the oil and gas industry, and Washington politicians. Therefore, we have no response to the comment.

Title: Oil and Gas Geophysical Exploration Operations (43 CFR part 3150).

OMB Number: 1004-0162.

Form Numbers: BLM 3150-4/FS 2800-16; BLM 3150-5/FS 2800-16a.

Abstract: The information that is supplied allows the BLM and the U.S. Forest Service to determine that geophysical exploration operations are conducted in a manner consistent with statutes, regulations, land use plans, and environmental documents prepared under the National Environmental Policy Act.

Current Action: This proposal is being submitted to extend the expiration date of February 28, 2009.

Type of Review: 3-year extension.

Affected Public: Business or other for-profit institutions.

Obligation to Respond: Required to obtain or retain benefits.

Estimated Number of Annual Responses: 1,253.

Estimated Time per Response: BLM 3150-4/FS 2800-16, 1 hour; BLM 3150-5/FS 2800-16a, 20 minutes; Nonform data, 1 hour.

Estimated Total Annual Burden Hours: 836.

The BLM requests comments on the following subjects: (1) Whether the collection of information is necessary for the proper functioning of the BLM, including whether the information will have practical utility; (2) The accuracy of the BLM's estimate of the burden of the information collection, including the validity of the methodology and assumptions used; (3) The quality, utility, and clarity of the information collected; and (4) How to minimize the information collection burden on those who are to respond, including the use of appropriate automated, electronic, mechanical, or other forms of information technology.

Dated: February 20, 2009.
Jean Sonneman,
Bureau of Land Management, Acting Information Collection Clearance Officer.

[FR Doc. E9-4056 Filed 2-24-09; 8:45 am]

BILLING CODE 4310-84-P